DEPARTMENT OF ENERGY

Federal Energy Regulatory Commission

[Project No. 14211-000]

Rhode Island Department of Environmental Management; Notice of Preliminary Permit Application Accepted for Filing and Soliciting Comments, Motions To Intervene, and Competing Applications

On June 10, 2011, the Rhode Island Department of Environmental Management filed an application for a preliminary permit, pursuant to section 4(f) of the Federal Power Act (FPA), proposing to study the feasibility of the Elizabeth Webbing Hydroelectric Project to be located on the Blackstone River, in Central Falls, Providence County, Rhode Island. The sole purpose of a preliminary permit, if issued, is to grant the permit holder priority to file a license application during the permit term. A preliminary permit does not authorize the permit holder to perform any land-disturbing activities or otherwise enter upon lands or waters owned by others without the owners' express permission.

The proposed project would consist of the following: (1) The existing 10-foot-high, 156-foot-long granite masonry Elizabeth Webbing Dam with proposed 12-inch-high flashboards; (2) an existing 26-acre impoundment with a normal maximum water surface elevation of 34.9 feet (NGVD 1929); (3) an existing trashrack and 40-foot-wide, 39-foot-long headrace; (4) an existing 40-foot-wide, 70-foot-long powerhouse containing a 745-kilowatt turbine connected to a generator; (5) an existing tailrace; (6) proposed 400-foot-long, 5-kilovolt and 70-foot-long, 15-kilovolt transmission lines; and (7) appurtenant facilities. The project would have an estimated annual generation of 4,360 megawatt-hours.

Applicant Contact: Catherine Sparks, Chief, Division of Forest Environment, Rhode Island Department of Environmental Management, 235 Promenade Street, Providence, RI 02908; phone: (401) 222-4700.

FERC Contact: Brandon Cherry; phone: (202) 502-8328.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14211-000) in the docket number field to access the document. For assistance, contact FERC Online Support.

Dated: August 16, 2011.
Kimberly D. Bose,
Secretary.

[FR Doc. 2011-21448 Filed 8-22-11; 8:45 am]

BILLING CODE 6717-01-P